DEPARTMENT OF HEALTH AND HUMAN SERVICES

Centers for Medicare & Medicaid Services

42 CFR Part 423

[CMS-0011-CN]

RIN 0938-AN49

Medicare Program; E-Prescribing and the Prescription Drug Program; Correction

AGENCY: Centers for Medicare & Medicaid Services (CMS), HHS.

ACTION: Final rule; Correction.

SUMMARY: This document corrects technical errors that appeared in the final rule published in the Federal Register on November 7, 2005, entitled “Medicare Program; E-Prescribing and the Prescription Drug Program.”

EFFECTIVE DATE: November 7, 2005.

FOR FURTHER INFORMATION CONTACT: Gladys Wheeler, (410) 786-0273.

SUPPLEMENTARY INFORMATION:

I. Background

FR Doc. 05-22026, entitled “Medicare Program E-Prescribing and the Prescription Drug Program,” which was published November 7, 2005 (70 FR 67568), adopted several final standards for an electronic prescription drug program under Title I of the Medicare Prescription Drug, Improvement, and Modernization Act of 2003 (MMA). We have identified several technical errors in that final rule. We are correcting those errors in the Correction of Errors section below. Because these technical corrections are not substantive in nature, the effective date of the November 7, 2005, final rule is unaffected by this notice.

II. Summary of Errors

On page 67571, in the second “Response” of the first column, we are revising the reference to the http://www.cms.hhs.gov/hipaa/hipaa2 Web site because, in the near future, the Frequently Asked Questions (FAQs) will be available through a link on the general CMS Web site.

On page 67571, in the last paragraph of the second column, the word “direction” should be replaced with the more appropriate word “discretion.” Also, in that same paragraph the word “is” should be added to the phrase “and designed” to improve clarity.

On page 67574, in the fourth full paragraph of the second column, the singular word “criterion” should have been in the plural form. Therefore, “criterion,”, needs to be replaced with “criteria”.

On page 67581, in the first full paragraph of the second column, the word “may” was inadvertently omitted.

On page 67592, in the first response of the second column, we inadvertently left language related to an initial plan to include computer-generated prescription facsimiles in the definition of electronic media after a phase-in period. We explicitly exempted computer-generated facsimiles from the requirements to use the NCPDP SCRIPT standard in the final regulatory text. Therefore, the preamble discussion of a phase-in should be deleted.

III. Correction of Errors

FR Doc. 05-22026, entitled “Medicare Program E-Prescribing and the Prescription Drug Program,” which was published November 7, 2005 (70 FR 67568), is corrected as follows:

1. On page 67571,

a. In the first column, fourth full paragraph, lines 9 and 10, the CMS Web site address “(http://www.cms.hhs.gov/hippa/hippa2)” is corrected to read “(http://www.cms.hhs.gov).”

b. In the second column, last paragraph, first sentence,—

(1) Line 2, the word “direction” is corrected to read “discretion”;

(2) Line 6, the phrase “and designed” is corrected to read “and is designed.”

2. On page 67574, in the second column, in the fourth full paragraph, line 6, the word “criterion” is corrected to read “criteria.”

3. On page 67581, in the second column, in the first full paragraph, line 3, the phrase “PDPs continue” is corrected to read “PDPs may continue.”

4. On page 67592, in the second column, the second full paragraph, lines 11 through 23, the sentences beginning with the phrase “We also believe that our” and ending with the phrase “costs associated with e-prescribing adoption” are deleted.

IV. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

We find it unnecessary to undertake notice and comment rulemaking because this notice merely provides technical corrections to the regulations. Therefore, we find good cause to waive notice and comment procedures.

(Catalog of Federal Domestic Assistance Program No. 93.773, Medicare—Hospital Insurance; and Program No. 93.774, Medicare—Supplementary Medical Insurance Program)

Dated: December 20, 2005.
Ann C. Agnew,
Executive Secretary to the Department.

[FR Doc. 05-24445 Filed 12-22-05; 8:45 am]

BILLING CODE 4120-01-P